DEPARTMENT OF AGRICULTURE

Forest Service

Meeting of the Land Between The Lakes Advisory Board

AGENCY: Forest Service, USDA.

ACTION: Notice of meeting.

SUMMARY: The Land Between The Lakes Advisory Board will hold a meeting on Thursday, October 2, 2008. Notice of this meeting is given under the Federal Advisory Committee Act, 5 U.S.C. App.2.

The meeting agenda includes the following:

(1) Welcome/Introductions;

(2) Members visit areas in Land Between The Lakes;

(3) Board discussion on morning visits relating to dispersed recreation/education;

(4) Update on Nature Watch;

(5) LBL Updates;

(6) Board Discussion of Comments Received.

The meeting is open to the public. Written comments are invited and may be mailed to: William P. Lisowsky, Area Supervisor, Land Between The Lakes, 100 Van Morgan Drive, Golden Pond, Kentucky 42211. Written comments must be received at Land Between The Lakes by September 25, 2008, in order for copies to be provided to the members at the meeting. Board members will review written comments received, and at their request, oral clarification may be requested at a future meeting.

DATES: The meeting will be held on October 2, 2008, 1 p.m. to 3:30 p.m., CDT.

ADDRESSES: The meeting will be held at the Land Between The Lakes Administrative Building, Golden Pond, Kentucky, and will be open to the public.

FOR FURTHER INFORMATION CONTACT: Sharon Byers, Advisory Board Liaison, Land Between The Lakes, 100 Van Morgan Drive, Golden Pond, Kentucky 42211, 270-924-2002.

SUPPLEMENTARY INFORMATION: In the morning of October 2, 2008, Advisory Board members will visit various locations throughout Land Between The Lakes to research dispersed recreation/education opportunities. These visits will be done in small groups to different locations; the full board will not be visiting the same location. No official business of the board will take place during these morning visits.

Dated: September 5, 2008.
William P. Lisowsky,
Area Supervisor, Land Between The Lakes.

[FR Doc. E8-20883 Filed 9-8-08; 8:45 am]

BILLING CODE 3410-11-P